NUCLEAR REGULATORY COMMISSION

Sunshine Act Meetings

AGENCY: Nuclear Regulatory Commission.

DATES: Weeks of May 10, 17, 24, 31, June 7, 14, 2004.

PLACE: Commissioners' Conference Room, 11555 Rockville Pike, Rockville, Maryland.

STATUS: Public and Closed.

MATTERS TO BE CONSIDERED:

Week of May 10, 2004

Monday, May 10, 2004

1 p.m.—Briefing on Grid Stability and Offsite Power Issues (Public Meeting) (Contact: Cornelius Holden, 301-415-3036).

This meeting will be webcast live at the Web address— http://www.nrc.gov.

Tuesday, May 11, 2004

9:30 a.m.—Briefing on Status of Office of International Programs (OIP) Programs, Performance, and Plans (Public Meeting) (Contact: Ed Baker, 301-415-2344).

This meeting will be webcast live at the Web address— http://www.nrc.gov.

1:30 p.m.—Briefing on Threat Environment Assessment (Closed—Ex. 1).

Week of May 17, 2004—Tentative

There are no meetings scheduled for the Week of May 17, 2004.

Week of May 24, 2004—Tentative

Tuesday, May 25, 2004

1:30 p.m.—Discussion of Management Issues (Closed—Ex. 2).

Wednesday, May 26, 2004

10:30 a.m.—All Employees Meeting (Public Meeting).

1:30 p.m.—All Employees Meeting (Public Meeting).

Week of May 31, 2004—Tentative

Wednesday, June 2, 2004

9:30 a.m.—Briefing on Equal Employment Opportunity Program (Public Meeting) (Contact: Corenthis Kelley, 301-415-7380).

This meeting will be webcast live at the Web address— http://www.nrc.gov.

1:30 p.m.—Meeting with Advisory Committee on Reactor Safeguards (ACRS) (Public Meeting) (Contact: John Larkins, 301-415-7360).

This meeting will be webcast live at the Web address— http://www.nrc.gov.

Week of June 7, 2004—Tentative

There are no meetings scheduled for the Week of June 7, 2004.

Week of June 14, 2004—Tentative

There are no meetings scheduled for the Week of June 14, 2004.

*The schedule for Commission meetings is subject to change on short notice. To verify the status of meetings call (recording)—(301) 415-1292. Contact person for more information: Dave Gamberoni, (301) 415-1651.

* * * * *

SUPPLEMENTARY INFORMATION: By a vote of 3-0 on May 3, the Commission determined pursuant to U.S.C. 552b(e) and § 9.107(a) of the Commission's rules that “Affirmation of Dominion Nuclear Connecticut (Millstone Nuclear Power Station, Units 2 and 3) (Rejection by the Secretary of Petition to Intervene in License Renewal Proceeding as Premature)” be held on May 4, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 5, 2004.
Dave Gamberoni,
Office of the Secretary.

[FR Doc. 04-10613 Filed 5-6-04; 10:03 am]

BILLING CODE 7590-01-M